OFFICE OF THE UNITED STATES TRADE REPRESENTATIVE

Andean Trade Preference Act (ATPA), as Amended: Notice Regarding the 2003 Annual Review

AGENCY: Office of the United States Trade Representative.

ACTION: Notice.

SUMMARY: The Office of the United States Trade Representative (USTR) received petitions in September 2003 to review certain practices in certain beneficiary developing countries to determine whether such countries are in compliance with the ATPA eligibility criteria. This notice publishes a list of the September 2003 petitions that were filed in response to the announcement of the annual review.

FOR FURTHER INFORMATION CONTACT: Bennett M. Harman, Deputy Assistant U.S. Trade Representative for Latin America, Office of the Americas, Office of the United States Trade Representative, 600 17th St., NW., Washington, DC 20508. The telephone number is (202) 395-9446, and the facsimile number is (202) 395-9675.

SUPPLEMENTARY INFORMATION: The ATPA (19 U.S.C. 3201 et seq.), as renewed and amended by the Andean Trade Promotion and Drug Eradication Act of 2002 (ATPDEA) in the Trade Act of 2002 (Pub. L. 107-210), provides trade benefits for eligible Andean countries. Consistent with Section 3103(d) of the ATPDEA, USTR promulgated regulations (15 CFR part 2016) (68 FR 43922) regarding the review of eligibility of countries for the benefits of the ATPA as amended. The 2003 Annual ATPA Review is the first such review to be conducted pursuant to the ATPA regulations.

In a Federal Register notice dated August 14, 2003, USTR initiated the 2003 ATPA Annual Review and announced a deadline of September 15, 2003 for the filing of petitions (68 FR 48657). Several of these petitions requested the review of certain practices in certain beneficiary developing countries regarding compliance with the eligibility criteria set forth in sections 203(c) and (d) and section 204(b)(6)(B) of the ATPA as amended (19 U.S.C. 3203 (c) and (d); 19 U.S.C. 3203(b)(6)(B))

Pursuant to 15 CFR 2016.1(a), this notice provides a list of the responsive petitions filed pursuant to the announcement of the annual review. Petitions not responsive to the September 2003 notice will not be considered in this review. The list of petitions sets forth the petitioner, country, and subject matter of the practice in question for each petition. The results of the preliminary review of these petitions will be published in the Federal Register at a later date. Subsequently, any modifications to the list of beneficiary developing countries or eligible articles resulting from this review will be published in the Federal Register.

Bennett M. Harman,
Deputy Assistant United States Trade Representative for Latin America.

Andean Trade Preference Act (ATPA), Status of Country Practice Petitions and Ongoing Reviews
Petitioner | Country | Matter
AFL-CIO | Ecuador | Worker Rights.
Big 3 Marine | Peru | Expropriation.
Duke Energy | Ecuador | Contract Nullification.
Duke Energy | Peru | Contract Nullification.
Engelhard | Peru | Tax Issues.
Human Rights Watch | Ecuador | Worker Rights.
LeTourneau | Peru | Expropriation.
Nortel Networks | Colombia | Contract Nullification.
PhRMA | Ecuador | Intellectual Property Rights.
PhRMA | Peru | Intellectual Property Rights.
Princeton Dover | Peru | Tax Issues.
US/LEAP | Ecuador | Worker Rights

[FR Doc. 03-28391 Filed 11-10-03; 8:45 am]

BILLING CODE 3190-W3-P